DEPARTMENT OF TRANSPORTATION

Federal Transit Administration

[FTA Docket No. FTA 2023-0020]

Agency Information Collection Activity Under OMB Review: Metropolitan and Statewide and Nonmetropolitan Transportation Planning

AGENCY: Federal Transit Administration, Department of Transportation.

ACTION: Notice of request for comments.

SUMMARY: In accordance with the Paperwork Reduction Act of 1995, this notice announces the intention of the Federal Transit Administration (FTA) to request the Office of Management and Budget (OMB) to approve the extension of a currently approved information collection: Metropolitan and Statewide and Nonmetropolitan Transportation Planning.

DATES: Comments must be submitted before November 17, 2023.

ADDRESSES: To ensure that your comments are not entered more than once into the docket, submit comments identified by the docket number by only one of the following methods:

1. Website: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9:00 a.m. and 5:00 p.m., Monday through Friday, except Federal holidays.

Instructions: You must include the agency name and docket number for this notice at the beginning of your comments. Submit two copies of your comments if you submit them by mail. For confirmation that FTA has received your comments, include a self-addressed stamped postcard. Note that all comments received, including any personal information, will be posted and will be available to internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE, Docket Operations, M-30, West Building, Ground Floor, Room W12-140, Washington, DC 20590-0001 between 9:00 a.m. and 5:00 p.m., Monday through Friday, except Federal holidays.

FOR FURTHER INFORMATION CONTACT: Reena Mathews at (202) 366-2076, or email: Reena Mathews@dot.gov.

SUPPLEMENTARY INFORMATION: Interested parties are invited to send comments regarding any aspect of this information collection, including: (1) the necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Metropolitan and Statewide and Nonmetropolitan Transportation Planning.

OMB Number: 2132-0529.

Background: The FTA and Federal Highway Administration (FHWA) jointly carry out the Federal mandate to improve urban and rural transportation. 49 U.S.C. 5303 and 5304 and 23 U.S.C. 134 and 135 authorize the use of Federal funds to assist Metropolitan Planning Organizations (MPOs), States, and local public bodies in developing transportation plans and programs to serve the transportation needs of urbanized areas over 50,000 in population and other areas of States outside of urbanized areas. The program provides funding and procedural requirements for multimodal transportation planning in metropolitan areas and States. Planning needs to be cooperative, continuous, and comprehensive, resulting in long-range plans and short-range programs reflecting transportation investment priorities. Eligible respondents include State Departments of Transportation (DOTs) and Metropolitan Planning Organizations (MPOs). Federal planning funds are first apportioned to State DOTs. State DOTs then allocate planning funding to MPOs. Funds are available for planning activities that (A) support the economic vitality of the metropolitan area, especially by enabling global competitiveness, productivity, and efficiency; (B) increase the safety of the transportation system for motorized and nonmotorized users; (C) increase the security of the transportation system for motorized and nonmotorized users; (D) increase the accessibility and mobility of people and for freight; (E) protect and enhance the environment, promote energy conservation, improve the quality of life, and promote consistency between transportation improvements and State and local planned growth, housing, and economic development patterns; (F) enhance the integration and connectivity of the transportation system, across and between modes, for people and freight; (G) promote efficient system management and operation; (H) emphasize the preservation of the existing transportation system; and (I) improve the resiliency and reliability of the transportation system. Funds are apportioned to States by a formula that includes each State's urbanized area population in proportion to the total urbanized area population for the nation, as well as other factors. States can receive no less than .5 percent of the amount apportioned. These funds, in turn, are sub-allocated by States to MPOs by a formula that considers each MPO's urbanized area population, their individual planning needs, and a minimum distribution.

Respondents: State Departments of Transportation and MPOs.

Estimated Annual Burden on Respondents: 11,693 hours for each of the 502 respondents.

Estimated Total Annual Burden: 5,869,921 hours.

Frequency: Annual.

Emily Anderson,
Director, Office of Management Planning.

[FR Doc. 2023-20134 Filed 9-15-23; 8:45 am]

BILLING CODE 4910-57-P